DEPARTMENT OF COMMERCE

International Trade Administration

[C-423-809]

Stainless Steel Plate in Coils from Belgium: Extension of Time Limit for Preliminary Results of Countervailing Duty Administrative Review

AGENCY: Import Administration, International Trade Administration, Department of Commerce.

EFFECTIVE DATE: January 9, 2008.

FOR FURTHER INFORMATION CONTACT: David Layton at (202) 482-0371 or David Neubacher at (202) 482-5823; AD/CVD Operations, Office 1, Import Administration, International Trade Administration, U.S. Department of Commerce, 14th Street and Constitution Avenue, NW, Washington, DC 20230.

SUPPLEMENTARY INFORMATION:

Background

On June 29, 2007, the Department published a notice of initiation of administrative review of the countervailing duty order on Stainless Steel Plate in Coils from Belgium, covering the period January 1, 2006, through December 31, 2006. See Initiation of Antidumping and Countervailing Duty Administrative Reviews, Request for Revocation in Part and Deferral of Administrative Review, 72 FR 35690 (June 29, 2007).

Statutory Time Limits

Section 751(a)(3)(A) of the Tariff Act of 1930, as amended (“the Act”), requires the Department of Commerce (“the Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limits for Preliminary Results

This administrative review is extraordinarily complicated due to the nature of the countervailable subsidy practices and the fact that we have not conducted an administrative review of the countervailing duty order on stainless steel plate in coils from Belgium since 2001. Because the Department requires additional time to review, analyze, and possibly verify the information, and to issue supplemental questionnaires, it is not practicable to complete this review within the originally anticipated time limit (i.e., by January 31, 2008). Therefore, the Department is extending the time limit for completion of the preliminary results to not later than May 30, 2008, in accordance with section 751(a)(3)(A) of the Act.

We are issuing and publishing this notice in accordance with sections 751(a)(1) and 777(i)(1) of the Act.

Dated: January 3, 2008.
Stephen J. Claeys,
Deputy Assistant Secretary for Import Administration.

[FR Doc. E8-180 Filed 1-8-08; 8:45 am]

Billing Code: 3510-DS-S